ENVIRONMENTAL PROTECTION AGENCY

[FRL-9964-82-OAR]

EPA's Intent To Disclose Confidential Business Information (CBI) Contained in Vehicle Sales Data for Model Years 2015 to the U.S. Energy Information Administration (EIA) for Use in Modeling and Projecting Energy Demand in the Light-Duty Vehicle Sector

AGENCY: Environmental Protection Agency (EPA).

ACTION: Notice.

SUMMARY: On June 23, 2017, the Environmental Protection Agency (EPA) received a written request from the U.S. Energy Information Administration (EIA) for historical model year sales data for year 2015 by manufacturer and nameplate. This requested data may contain confidential business information (CBI). The EPA may disclose business information to other Federal agencies that otherwise is not available to the public if certain requirements are met. The EPA intends to share certain information, detailed below, with EIA ten (10) days after publication of this notice. The information requested has been used to model and project energy demand in the light-duty vehicle sector and is critical to EIA's efforts to project energy demand, fuel efficiency, fuel consumption, and greenhouse gas emissions for the transportation sector. EIA has agreed to keep the data confidential and not disclose it further.

DATES: The sales data will be disclosed to EIA on or after July 31, 2017.

FOR FURTHER INFORMATION CONTACT: Sara Zaremski, Office of Transportation and Air Quality, Compliance Division, Environmental Protection Agency, 2000 Traverwood Drive, Ann Arbor, MI 48105; telephone number: 734-214-4362; fax number: 734-214- 4053; email address: zaremski.sara@epa.gov.

SUPPLEMENTARY INFORMATION:

I. General Information

A. Does this action apply to me?

Entities potentially affected by this action are those involved with the production and sale of motor vehicles. Regulated categories include:

Category | NAICS ¹ Codes | SIC ² Codes | Examples of potentially regulated entities
Industry | 336111, 336112 | 3711 | Light-duty vehicle and light-duty truck manufacturers.
¹ North American Industry Classification System (NAICS).
² Standard Industrial Classification (SIC) system code.

This table is not intended to be exhaustive, but rather provides a guide for readers regarding entities likely to be affected by the disclosure.

II. EIA's Request for Model Year Sales Data for Year 2015

In their June 23, 2017 request letter to EPA, EIA requested that EPA provide to EIA historical model year sales data for year 2015 by manufacturer and nameplate. As noted earlier in this document, EIA uses this information to model and project energy demand in the light-duty vehicle sector. Additionally, EIA noted that these data are critical to EIA's continued efforts to project energy demand, fuel efficiency, fuel consumption, and greenhouse gas emissions for the transportation sector. Previously, EIA had been unable to obtain official model year sales data for 2015 due to the fact that it contained CBI. The specific data they requested includes all the data fields currently available in the Excel files provided on the fueleconomy.gov Web site (see the Download Fuel Economy Data page at http://www.fueleconomy.gov/feg/download.shtml).

Additionally, EIA requested the following data fields: model year sales, tank size, track width, wheelbase, curb weight, horsepower, interior volume, fleet (DP, IP, LT), and test weight. EIA indicated that they are aware that this information is subject to claims of confidential business information. EIA's letter states “We will take the necessary steps to ensure the data are secure and kept confidential. EIA routinely works with sensitive data and has strong data handling safeguards in place.”

Pursuant to 40 CFR 2.209(c), EPA may disclose business information to another Federal agency if: (1) EPA receives a written request for disclosure of the information from a duly authorized officer or employee of the other agency; (2) the request sets forth the official purpose for which the information is needed; (3) when the information has been claimed as confidential or has been determined to be confidential, the responsible EPA office provides notice to each affected business of the type of information to be disclosed and to whom it is to be disclosed, and such notice may be given by notice published in the Federal Register at least 10 days prior to disclosure; (4) EPA notifies the other agency of any unresolved business confidentiality claim covering the information and of any determination under this subpart that the information is entitled to confidential treatment, and that further disclosure of the information may be a violation of the Trade Secrets Act, 18 U.S.C. 1905; and (5) the other agency agrees in writing that in accordance with the law, it will not disclose further any information designated as confidential.

In the case at hand, all of the required elements of 40 CFR 2.209(c) have been met upon publication of this notice.

III. Impact on Vehicle Manufacturers

Given that EIA is aware that the shared information is CBI or has been claimed as CBI, and intends to take the necessary steps to ensure that the data provided is kept secure and confidential, there is no impact on vehicle manufacturers to the release of this data.

Dated: July 5, 2017.
Byron Bunker,
Director, Compliance Division, Office of Transportation & Air Quality.

[FR Doc. 2017-15377 Filed 7-20-17; 8:45 am]

BILLING CODE 6560-50-P